DEPARTMENT OF TRANSPORTATION

Federal Aviation Administration

14 CFR Part 71

[Docket No. FAA-2005-20322; Airspace Docket No. 05-ANM-1]

RIN 2120-AA66

Establishment and Revision of Area Navigation (RNAV) Routes; Western United States

AGENCY: Federal Aviation Administration (FAA), DOT.

ACTION: Final rule.

SUMMARY: This action establishes three area navigation (RNAV) routes and revises one existing RNAV route in the Western United States (U.S.) in support of the High Altitude Redesign (HAR) program. The FAA originally proposed to revise two area navigation routes as part of this action, but one revised route (Q-11) was deleted because the proposed change provided limited benefit. The FAA is taking this action to enhance safety and to improve the efficient use of the navigable airspace in the Western U.S.

EFFECTIVE DATE: 0901 UTC, December 22, 2005.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

History

On May 25, 2005, the FAA published in the Federal Register a notice of proposed rulemaking (NPRM) to establish three and revise two “Q” routes in the Western U.S. Interested parties were invited to participate in this rulemaking effort by submitting written comments on the proposal to the FAA. No comments were received in response the NPRM.

In reviewing the configuration of the proposed revision to Q-11, the FAA determined that revision of this route as proposed was not required. The proposed revision to Q-11 is withdrawn. With the exception of editorial changes, and the change discussed above, this amendment is the same as that proposed in the notice.

The Rule

The FAA is amending Title 14 Code of Federal Regulations (14 CFR) part 71 by establishing three RNAV routes and revising one existing route in the Western United States within the airspace assigned to the Seattle and Los Angeles Air Route Traffic Control Centers (ARTCC). These routes were developed as part of the HAR program to allow more efficient routings. They are being established to enhance safety, and to facilitate the more flexible and efficient use of the navigable airspace for en route instrument flight rules (IFR) operations within the Los Angeles and Seattle ARTCC area of responsibility.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 2006 Area Navigation Routes

* * * * *

Q-13 PAWLI to PRFUM [Revised]
PRFUM | WP | (Lat. 35°30′24″N., long. 113°56′35″W.)
CENIT | WP | (Lat. 36°41′02″N., long. 116°26′31″W.)
TUMBE | WP | (Lat. 36°48′20″N., long. 116°40′03″W.)
TACUS | WP | (Lat. 37°05′16″N., long. 116°54′12″W.)
WODIN | WP | (Lat. 37°19′20″N., long. 117°05′25″W.)
LEAHI | WP | (Lat. 37°28′58″N., long. 117°14′57″W.)
LOMIA | WP | (Lat. 39°13′12″N., long. 119°06′23″W.)
RUFUS | WP | (Lat. 41°26′00″N., long. 120°00′00″W.)
PAWLI | WP | (Lat. 43°10′48″N., long. 120°55′50″W.)
Q-15 CHILY to LOMIA [New]
CHILY | WP | (Lat. 34°42′49″N., long. 112°45′42″W.)
DOVEE | WP | (Lat. 35°26′51″N., long. 114°48′01″W.)
BIKKR | WP | (Lat. 36°34′00″N., long. 116°45′00″W.)
DOBNE | WP | (Lat. 37°14′23″N., long. 117°15′04″W.)
RUSME | WP | (Lat. 37°29′39″N., long. 117°31′12″W.)
LOMIA | WP | (Lat. 39°13′12″N., long. 119°06′23″W.)
Q-2 BOILE to EWM [New]
BOILE | WP | (Lat. 34°25′21″N., long. 118°01′33″W.)
HEDVI | WP | (Lat. 33°32′23″N., long. 114°28′14″W.)
HOBOL | WP | (Lat. 33°11′30″N., long. 112°20′00″W.)
ITUCO | WP | (Lat. 32°26′30″N., long. 109°46′26″W.)
EWM | VORTAC | (Lat. 31°57′06″N., long. 106°16′21″W.)
Q-4 BOILE to ELP [New]
BOILE | WP | (Lat. 34°25′21″N., long. 118°01′33″W.)
HEDVI | WP | (Lat. 33°32′23″N., long. 114°28′14″W.)
SCOLE | WP | (Lat. 33°27′46″N., long. 114°04′54″W.)
SPTFR | WP | (Lat. 33°23′49″N., long. 113°43′29″W.)
ZEBOL | WP | (Lat. 33°03′30″N., long. 112°31′00″W.)
SKTTR | WP | (Lat. 32°17′38″N., long. 109°50′44″W.)
ELP | VORTAC | (Lat. 31°48′57″N., long. 106°16′55″W.)

* * * * *

Issued in Washington, DC, on October 6, 2005.
Edith V. Parish,
Acting Manager, Airspace and Rules.

[FR Doc. 05-20627 Filed 10-13-05; 8:45 am]

BILLING CODE 4910-13-P